ENVIRONMENTAL PROTECTION AGENCY

[FRL-9674-6]

Standards of Performance for New Stationary Sources, National Emission Standards for Hazardous Air Pollutants, and the Stratospheric Ozone Protection Program: Recent Posting to the Applicability Determination Index (ADI) Database System of Agency Applicability Determinations, Alternative Monitoring Decisions, and Regulatory Interpretations

AGENCY: Environmental Protection Agency (EPA).

ACTION: Notice of Availability.

SUMMARY: This notice announces applicability determinations, alternative monitoring decisions, and regulatory interpretations that EPA has made under the New Source Performance Standards (NSPS); the National Emission Standards for Hazardous Air Pollutants (NESHAP); and the Stratospheric Ozone Protection Program.

FOR FURTHER INFORMATION CONTACT: An electronic copy of each EPA response letter posted on the Applicability Determination Index (ADI) database system is available on the Internet through the Office of Enforcement and Compliance Assurance (OECA) Web site at: http://www.epa.gov/compliance/monitoring/programs/caa/adi.html. The document may be located by control number, date, author, subpart, or subject search. For questions about the ADI or this notice, contact Maria Malave at EPA by phone at: (202) 564-7027, or by email at: malave.maria@epa.gov. For technical questions about the individual applicability determinations or monitoring decisions, refer to the contact person identified in the individual EPA response letters and memoranda, or in the absence of a contact person, refer to the author of the document.

SUPPLEMENTARY INFORMATION:

Background

The General Provisions to the NSPS in 40 Code of Federal Regulations (CFR) part 60 and the General Provisions to the NESHAP in 40 CFR part 61 provide that a source owner or operator may request a determination of whether certain intended actions constitute the commencement of construction, reconstruction, or modification. EPA's written responses to these inquiries are commonly referred to as applicability determinations. See 40 CFR 60.5 and 61.06. Although the part 63 NESHAP [which includes Maximum Achievable Control Technology (MACT) standards] and section 111(d) of the Clean Air Act (CAA) regulations contain no specific regulatory provision providing that sources may request applicability determinations, EPA also responds to written inquiries regarding applicability for the part 63 and section 111(d) programs. The NSPS and NESHAP also allow sources to seek permission to use monitoring or recordkeeping that are different from the promulgated requirements. See 40 CFR sections 60.13(i), 61.14(g), 63.8(b)(1), 63.8(f), and 63.10(f). EPA's written responses to these inquiries are commonly referred to as alternative monitoring decisions. Furthermore, EPA responds to written inquiries about the broad range of NSPS and NESHAP regulatory requirements as they pertain to a whole source category. These inquiries may pertain, for example, to the type of sources to which the regulation applies, or to the testing, monitoring, recordkeeping, or reporting requirements contained in the regulation. EPA's written responses to these inquiries are commonly referred to as regulatory interpretations.

EPA currently compiles Agency-issued NSPS and NESHAP applicability determinations, alternative monitoring decisions, and regulatory interpretations, and posts them on the web-based Applicability Determination Index (ADI) at www.epa.gov/compliance/monitoring/programs/caa/adi.html. The ADI is an electronic index containing over three thousand EPA letters and memoranda pertaining to the applicability, monitoring, recordkeeping, and reporting requirements of the NSPS, NESHAP, and stratospheric ozone regulations (at 40 CFR part 82). The letters and memoranda may be searched by date, office of issuance, subpart, citation, control number, or by keywords.

Today's notice comprises a summary of forty-four such documents added to the ADI on April 25, 2012. The subject and header of each letter and memorandum are listed in this notice, as well as a brief abstract of the letter or memorandum. Complete copies of these documents may be obtained from the ADI through the OECA Web site at: www.epa.gov/compliance/monitoring/programs/caa/adi.html.

Summary of Headers and Abstracts

The following table identifies the database control number for each document posted on the ADI database system on April 25, 2012; the applicable category; the subpart(s) of 40 CFR part 60, 61, or 63 (as applicable) covered by the document; and the title of the document, which provides a brief description of the subject matter. We have also included an abstract of each document identified with its control number after the table. These abstracts are provided solely to alert the public to possible items of interest and are not intended as substitutes for the full text of the documents. This notice does not change the status of any document with respect to whether it is “of nationwide scope or effect” for purposes of section 307(b)(1) of the Clean Air Act. For example, this notice does not make an applicability determination for a particular source into a nationwide rule. Neither does it purport to make any document that was previously non-binding into a binding document.

ADI Determinations Uploaded on April 25, 2012
Control No. | Categories | Subparts | Title
A110002 | Asbestos NESHAP | M | Demolition of Residential Structures.
1000027 | NSPS | Da | Utility Boiler Combustion Determination.
1000028 | NSPS | VVa | Alternative Monitoring Plan.
1000029 | NSPS | NNN | Alternative Monitoring Plan.
1000030 | NSPS | Ce, Ec | Applicability of Exemptions Under Subpart Ce.
1000031 | NSPS | WWW | Control System Operation and Monitoring Deadlines.
1000032 | NSPS | VVa | Alternative Monitoring Plan.
1000033 | NSPS | AAa | Alternative Monitoring Plan.
1000034 | NSPS | NNN | Alternative Monitoring and Performance Test Waiver Request.
1000035 | NSPS | H | Alternative Quality Assurance Proposal.
1000036 | NSPS | Db | Opacity Monitoring Alternative.
1000037 | NSPS | Db | Alternative Monitoring Plan.
1000038 | NSPS | WWW | Gas Collection and Control System Design Plan Change.
1000039 | NSPS | OOO | Performance Test Waiver.
1000040 | NSPS | KKKK | Alternative Monitoring Plan.
1000041 | NSPS | H | Alternative Quality Assurance Procedure.
1000042 | NSPS | LL, Y | Test Waivers and Reductions in Test Duration.
1000043 | NSPS | UUU | Performance Test Waiver.
1000044 | NSPS | BBBB, Cb, Eb | Resource Recovery Facility Capacity Increase.
M100029 | MACT | RRR | Alternative Testing, Monitoring, and Recordkeeping Requirements.
1000045 | NSPS | J | Emergency Flare at Hydrogen Reformer Facility.
1000047 | NSPS | WWW | Effect of Permit on Design Capacity.
1000048 | NSPS | KKK | Alternative Monitoring.
1000049 | NSPS | DD | Single Source Determination for Grain Elevators.
M100031 | MACT | T | Alternative Monitoring Method.
M100032 | MACT | GGG | Time Period Adjustment for Periodic Reports.
1000050 | NSPS | A | Rationale for Including Labor Costs in Reconstruction under NSPS.
M110001 | MACT | RRRR | Surface Coating of Metal Furniture.
1100002 | NSPS | Db | Alternative Testing Frequency.
M110002 | MACT | JJJJ | Restricted HAP Emissions at Single Coating Line.
1100003 | NSPS | VVV | Coating of Paper Substrate.
1100004 | NSPS | F, GG | Alternative Test Frequency Requirement.
M110003 | MACT | X | Recycling of Lead-Containing Cathode Ray Tube Glass.
1100006 | NSPS | OOO | Performance Test Waiver.
M110005 | MACT | MMMM | Alternative Monitoring Method.
M110006 | MACT | EEE | Alternative Monitoring Method.
1100007 | NSPS | KKK | Criteria for Natural Gas Processing Plant.
M110007 | MACT | HHHHHH | Spray-Applied Coating Operations.
M110008 | MACT | EEEE | Application of NESHAP standards to Tanks.
1100008 | NSPS | Dc | Physically Derating Boilers.
1100009 | NSPS | Db | Alternative Test Frequency Requirements.
1100010 | NSPS | Dc | Alternative Recordkeeping and Reporting.
1100011 | NSPS | J | Alternative Monitoring Plan.
1100012 | NSPS | J | Alternative Monitoring Plan.

Abstracts

Abstract for [A110002]

Q: Does the EPA consider the residential structures in Youngstown, Ohio to be affected by any part of the Asbestos NESHAP? Additional detailed discussion was provided by an enclosure with a copy of a recent EPA letter to the Ohio Environmental Protection Agency, available under ADI Control Number A110001.

A: EPA has consistently interpreted the Asbestos NESHAP, subpart M, as applying to the mass demolition of residential structures. While the regulation has a residential building exemption provision, EPA has interpreted this exemption as being inapplicable when numerous residential buildings are being demolished for reasons of public health, welfare, and safety, as part of a single project, or if such residences meet the definition of an installation.

Abstract for [1000027]

Q: Is a utility boiler that is capable of combusting more than 250 mmBtu per hour heat input from natural gas as well as landfill gas subject to NSPS subpart Da if it primarily burns landfill gas?

A: Yes. The utility boiler is subject to NSPS subpart Da since it is capable of combusting more than 250 mmBtu per hour heat input of fossil fuel and meets the other applicability criteria in section 60.40Da(a).

Abstract for [1000028]

Q: Does EPA approve the use of sensory means (i.e., visual, audible, or olfactory) as an acceptable alternative to the use of EPA Method 21 for the identification of leaks from equipment in acetic acid and/or acetic anhydride service for equipment subject to 40 CFR part 60, subpart VVa at the BAE Systems Ordnance Systems, Inc. facility in Hawkins County, Tennessee?

A: Yes. EPA finds that the proposed alternative is acceptable. Monitoring results indicate that leaks from equipment in acetic acid and/or acetic anhydride service are more easily identified through sensory means than by using Method 21 because of the physical properties (i.e., high boiling point, high corrosivity, and low odor threshold) of acetic acid and acetic anhydride.

Abstract for [1000029]

Q: Does EPA approve an alternative monitoring procedure (AMP) that consists of monitoring the inlet scrubbing liquid temperature, flow rate, and acid content in lieu of the requirements in section 60.663(e)(1) for an acid scrubber at the Eastman Chemical Company in Kingsport, Tennessee subject to NSPS subpart NNN?

A: Yes. EPA conditionally approves the AMP request consisting of monitoring the inlet scrubbing liquid temperature and flow rate and identifying exceedances of these parameters based on a three-hour rolling average period, and acid content for the acid scrubber subject to NSPS subpart NNN.

Abstract for [1000030]

Q: Is guidance that EPA provided to the Department of Health and Human Services on the applicability of exemptions in NSPS subpart Ec for two types of units, including a unit that combusts both non-infectious animal waste and waste used in research and, a unit when a portion of the medical/infectious waste combusted also meets the definition of pathological waste, in an April 15, 1999, letter still valid?

A: Yes. Since the definitions of terms used in the exemptions in NSPS subpart Ec did not change when the rule was revised on October 6, 2009, the guidance on these two units provided in the April 15, 1999, letter is still valid.

Abstract for [1000031]

Q1: Does the Pecan Row Landfill located in Valdosta, Georgia have 60 days after waste has been in place for 5 years if active, or 2 years if closed, or at final grade to begin monitoring and operating each early installed well, which is the deadline for installing wells pursuant to section 60.7(55(b) of 40 CFR part 60, subpart WWW?

A1: Yes. The 60 days timeline for installing wells is also the deadline for starting operational parameter monitoring for these wells, since 40 CFR part 60, subpart WWW does not require that monitoring be conducted prior to the gas collection well installation deadline.

Q2: If monitoring of these wells is already being conducted on a monthly basis prior to the 5-year/2-year timeline and exceedances of the pressure, temperature, and oxygen and/or nitrogen concentration are measured, when does the Pecan Row Landfill have to initiate corrective action and re-monitoring as prescribed in 40 CFR section 60.755(a)(3) and 40 CFR section 60.755(a)(5)?

A2: Only monitoring results obtained on or after the gas collection well installation deadline would trigger the requirement for corrective action under 40 CFR part 60, subpart WWW. When exceedances of operating parameter limits in 40 CFR part 60, subpart WWW are detected during the monitoring required under 40 CFR section 60.755(a)(3) and 40 CFR section 60.755(a)(5), a first attempt at correcting the exceedance must be made within five calendar days.

Abstract for [1000032]

Q: Does EPA approve the proposed sensory means (i.e., visual audible, or olfactory) in lieu of EPA Method 21 for the identification of leaks from equipment in propionic acid service, acetic acid/acetic anhydride service, diketene service, acetic acid service, and methyl iodide service for equipment subject to 40 CFR part 60, subpart VVa at the Eastman Chemical Company in Kingsport, Tennessee?

A: Yes. EPA approves the proposal for equipment in propionic acid service, acetic acid/acetic anhydride service, diketene service, and acetic acid service, sensory means (i.e., visual, audible, or olfactory) to identify equipment leaks where 40 CFR part 60, subpart VVa requires the use of EPA Method 21, because of their physical properties (i.e., high boiling point, high corrosivity, and low odor threshold). For indoor equipment in methyl iodide service, the use of a system of continuous monitors which was approved by EPA as alternative monitoring under 40 CFR part 60, subpart VV is acceptable as an alternative under 40 CFR part 60, subpart VVa.

Abstract for [1000033]

Q: Does EPA approve an alternative opacity monitoring proposal (AMP) submitted for two electric arc furnaces subject to 40 CFR part 60, subpart AAa at Nucor Steel, Inc. in Tuscaloosa, Alabama?

A: Yes. EPA conditionally approves the AMP request to adjust dampers in the direct-shell evacuation (DEC) system based upon the amount of visible flame detected in the DEC ductwork is an alternative to using a fixed damper position since emissions are likely to vary significantly over each 30 to 40 minute scrap melting batch cycle. Since the AMP is likely to improve the performance of the particular Matter (PM) control system, it is acceptable provided the optical set point for the camera is based upon conditions during a performance test where compliance with the applicable PM and opacity limits is demonstrated.

Abstract for [1000034]

Q: Does EPA approve an alternative monitoring proposal (AMP) to use monitoring and testing provisions from NSPS subpart RRR at 40 CFR section 60.703(c)(1) and (c)(2) as alternative monitoring for the provisions of NSPS subpart NNN at 40 CFR section 60.663(c)(1) and (c)(2) and an initial performance test waiver requested for three distillation columns subject to 40 CFR part 60, subpart NNN at the BP Amoco Chemical Company facility in Decatur, Alabama?

A: Yes. Pursuant to 40 CFR Section 60.13(i), EPA approves the AMP and PT waiver, which are consistent with previous EPA AMP approvals for NSPS subpart NNN facilities.

Abstract for [1000035]

Q: Does EPA approve a proposal to substitute quarterly cylinder gas audits for annual relative accuracy test audits on the sulfur dioxide continuous emission monitor (CEMS) installed at the convertor inlet in order to address safety concerns at the Lucite sulfuric acid plant in Memphis, Tennessee?

A: EPA cannot make a determination until the necessary information listed in the EPA response letter is provided.

Abstract for [1000036]

Q: Does EPA approve an alternative opacity monitoring proposal (AMP) for rental package boilers subject to 40 CFR part 60, subpart Db to provide a backup source of steam in the event of a shutdown or reduced capacity at other boilers at the Rayoneir Performance Fibers, LLC facility in Fernandina Beach, Florida?

A: EPA conditionally approves the AMP request for use of visible emission observations using EPA Method 9 in lieu of opacity monitoring for any of the rental package boilers provided they have an annual capacity factor of 10 percent or less, which is the criteria for infrequent operation.

Abstract for [1000037]

Q: Does EPA approve an alternative opacity monitoring proposal (AMP) for a boiler at a new medium density fiberboard plant to monitor control device operating parameters for the scrubber located downstream of the boiler, instead of a continuous opacity monitory system (COMS) subject to NSPS subpart Db at the Uniboard USA, LLC facility located in Moncure, North Carolina?

A: No. EPA does not approve the AMP request because NSPS subpart Db allows a particulate matter (PM) continuous emission monitoring system to be used as an alternative to a COMS. Therefore, the proposal to monitor scrubber operating parameters in lieu of installing COMS is not acceptable.

Abstract for [1000038]

Q: Does EPA approve a proposed gas collection and control system (GCCS) design plan change, consisting of three potential control options, in order to meet the design considerations in 40 CFR part 60, subpart WWW, for the Sampson County Disposal (SCD) Municipal Solid Waste Landfill in Roseboro, North Carolina?

A: Yes. EPA approves the proposed GCCS design plan because it does not conflict with any of the design requirements of NSPS subpart WWW. The analysis provided by SCD demonstrates that the proposed approach for controlling emissions when new waste is placed on top of waste that has been in place for five years or more will be more effective than the two other potential control options evaluated.

Abstract for [1000039]

Q: Does EPA approve a waiver request to conduct a particulate emission test on the dust collector that controls emissions from the new crusher subject to 40 CFR part 60, subpart OOO at Industrial Materials, Incorporated?

A: EPA conditionally approves the waiver of particulate concentration testing request for the crusher. The proposed waiver would be acceptable if no visible emissions are detected during any of the 240 individual readings made during the initial opacity performance test conducted on the crusher. This determination is based upon the opacity test results and the margin of compliance during previous testing conducted on the aragonite screening operation that uses the same type of control device.

Abstract for [1000040]

Q: Does EPA approve a proposal to extend a previous custom fuel monitoring plan to four new stationary gas turbines subject to 40 CFR part 60, subpart KKKK at BMW Manufacturing Company, LLC located in Spartanburg, South Carolina?

A: Yes. EPA approves the proposal to use the existing custom fuel monitoring schedule for the new turbines based upon the low sulfur content found in 63 fuel samples analyzed between January 2003 and July 2009.

Abstract for [1000041]

Q: Does EPA approve a proposal to substitute quarterly cylinder gas audits for annual relative accuracy test audits (RATA) on the sulfur dioxide (SO2) continuous emission monitor system (CEMS) installed at the convertor inlet to address concerns regarding the high SO2 concentration at the convertor inlet for the Lucite sulfuric acid plant in Memphis, Tennessee?

A: No. EPA does not approve the proposed alternative because it does not allow for a comprehensive assessment of the CEMS performance. Although the proposed alternative is not acceptable, the response provides details regarding another alternative quality assurance testing procedure that allows the company to determine the RATA of the convertor inlet CEMS without sampling the gas stream at this site, that would be acceptable to EPA and addresses Lucite concerns with high SO2 concentration at the convertor inlet.

Abstract for [1000042]

Q: Does EPA approve the Tennessee Department of Environment and Conservation's (TDEC) request for authority to approve shorter visible emission observation times for 40 CFR part 60, subpart LL facilities when no opacity readings are above the standard and no more than three readings are equal to the standard during the first hour of observations and for authority to waive visible emission testing requirements if no opacity is detected on the exterior of the building during a 75-minute observation period for 40 CFR part 60, subpart LL facilities located inside buildings?

A: Yes. EPA approves the request for authority to approve shorter VE observation times and to waive, pursuant to 40 CFR part 60.8(b)(4), the requirement to conduct VE testing inside buildings is acceptable under the terms outlined in TDEC's June 29, 2009, request letter. This response is based on a previous determination for a facility located in Tennessee and the similarity between these proposals and provisions in NSPS subpart OOO, requiring that future requests be submitted to EPA for individual reviews will slow down approval without adding any value to the process. Therefore, the TDEC request for authority to process such requests in the future is acceptable.

Abstract for [1000043]

Q: Does EPA approve a proposed performance test waiver for two spray dryers in accordance with 40 CFR part 60, subpart UUU at the Stonepeak Ceramics, Incorporated facility located in Crossville, Tennessee?

A: Yes. EPA approves the request because the results of particulate matter (PM) testing conducted on Spray Dryer No. 1 and opacity observations made on Spray Dryers No. 1 through No. 3 provide adequate assurance of compliance with the PM limit for Spray Dryers No. 2 and No. 3.

Abstract for [1000044]

Q: What NSPS regulation(s) will the Bay County Resource Recovery Facility in Panama City, Florida be subject to after its charging capacity is increased from 245 to 255 tons per day?

A: Based upon the documentation provided, EPA cannot conclusively determine which of two potentially NSPS subparts applicable to large municipal waste combustors (i.e., subpart Cb applies if constructed on or before September 20, 1994, or subpart Eb applies if constructed after September 20, 1994, or for which modification or reconstruction is commenced after June 19, 1996), the facility will be subject to following the throughput increase. In order to determine whether a modification has occurred under NSPS and determine rule applicability, it will be necessary to determine whether the cost of the changes made in order to achieve the throughput increase constitute a capital expenditure. The facility would be subject to NSPS subpart Ec if the cost of the changes constitutes a capital expenditure, and the facility would be subject to NSPS subpart Cb if the cost of the changes does not constitute a capital expenditure.

Abstract for [M100029]

Q1: Does EPA approve Aleris International's request under 40 CFR part 63, subpart RRR to use the weight into the feed hopper as the weight fed into the chip dryer during testing at IMCO Recycling of Michigan LLC located in Coldwater, Michigan?

A1: Yes. EPA approves Aleris International's request for determining the chip dryer feed/charge weight during testing for the hopper feeder and chip dryer under MACT subpart RRR since their existing configuration does not allow separate weighing of the feed/charge into the chip dryer.

Q2: Does EPA approve Aleris International's request under 40 CFR part 63, subpart RRR to maintain records of the chip dryer feed weight using shift length recordkeeping at IMCO Recycling of Michigan LLC located in Coldwater, Michigan?

A2: No. EPA does not approve Aleris International's request under MACT subpart RRR for shift length recordkeeping for normal operations The recordkeeping method to measure the chip dryer feed/charge weight in twelve-hour shift blocks during normal operations is appropriate for unblended truckloads only.

Abstract for [1000045]

Q: Will EPA confirm that Linde's new flare located at the hydrogen reformer facility at the Citgo refinery in Romeoville, Illinois is not subject to the NSPS subpart J because it is an “emergency flare?”

A: No. EPA cannot confirm that Linde's flare is not subject to 40 CFR part 60, subpart J. Linde would need to provide additional information, as indicated in the EPA response letter, before EPA can conclude that the gases released from safety relief valves during upsets at the plant are process gas or fuel gas, and if they are fuel gas, whether they are limited to extraordinary situations.

Abstract for [1000047]

Q: How is “design capacity” as defined in 40 CFR section 60.751, determined for the Marquette County Solid Waste Landfill in Marquette, Michigan?

A: EPA has determined Marquette Landfill's current design capacity must include the capacity of Cells 0A, 0B, 1, 2, 3 and 4 designated under Marquette's most recent operating and construction permits issued by the State, plus any in-place waste not accounted for in these permits per 40 CFR section 60.751.

Abstract for [1000048]

Q: Does EPA approve waivers for the Reference Methods for testing flare tip heat content and testing flare tip velocity for the non-assisted flare in accordance with 40 CFR part 60, subpart KKK at the Velma Gas Plant located near Velma, Oklahoma?

A: Yes. EPA accepts the use of Gas Processors Association Method 2261 for determining compliance with the 200 BTU/cf standard at 40 CFR section 60.18(c)(3)(ii). Based on the engineering analysis provided, EPA grants a performance test waiver under 40 CFR section 60.78(b)(4) for the determination of exit velocity under 40 CFR section 60.18(f)(4).

Abstract for [1000049]

Q1: Should two grain elevators being operated at two different locations approximately 2.1 miles apart and owned by DeBruce Grain Inc. (DeBruce), in Abilene, Kansas be permitted and regulated as one facility under NSPS, and does 40 CFR part 60, subpart DD apply?

A1: The Kansas Department of Health and Environment may reasonably use its discretionary permitting authority to find that these two facilities could be treated as one source for purposes of a NSR/PSD and Title V permitting. However, EPA concludes that 40 CFR part 60, subpart DD does not apply to either of the two DeBruce facilities because neither exceeds the 2.5 million bushel storage capacity threshold.

Abstract for [M100031]

Q: Will EPA approve modifications to the EPA 2009 approved alternative monitoring plan in accordance with 40 CFR part 63, subpart T for two continuous web cleaning lines to address changes to the 84 inches and 60 inches lines at the Alcoa Mill Products Davenport facility (Alcoa) in Bettendorf, Iowa?

A: Yes. EPA conditionally approves revisions to the 2009 alternative monitoring plan to replace specific monitoring requirements on the 84 inches and 60 inches lines, provided the conditions in the response letter are met.

Abstract for [M100032]

Q: Does EPA approve modifications to adjust the semiannual reporting periods to coincide with the facilities Title V and Miscellaneous Organic NESHAP reporting periods for Sigma-Aldrich Manufacturing, LLC located in St. Louis, Missouri in accordance with 40 CFR section 63.9(i)?

A: Yes. EPA will approve reporting periods to allow for the submission of the Title V semi-annual report to be submitted on or before the first of April and October for each respective reporting period.

Abstract for [1000050]

Q: What is the rationale of including labor costs in the fixed capital cost associated with reconstruction under NSPS?

A: In order to have a fair comparison of costs between the reconstructed facility and the comparable new facility, any labor costs associated with refurbishing the old parts and installing the new and refurbished parts of the reconstructed existing facility must be included with the cost of the reconstructed facility's new components. Labor costs, similar to those associated with giving the reconstructed facility its new life, would be included in the cost of a comparable new facility. Adequate comparison of the costs on both sides of the equation is impossible without the inclusion of labor costs on the “reconstructed” side.

Abstract for [M110001]

Q: Is Connecticut (CT) Acquisitions LLC DBA Danver (Danver) located in Wallingford, CT, subject to 40 CFR part 63, subpart RRRR if it uses only coatings, thinners, and cleaning materials that contain no organic hazardous air pollutants (HAP)?

A: No. EPA determined that the operations at Danver currently meet the criteria in 40 CFR section 63.4881(c)(1), i.e., surface coatings that use only coatings, thinners, and cleaning materials that contain no organic HAP, and are currently not subject to 40 CFR part 63, subpart RRRR.

Abstract for [1100002]

Q1: Does EPA approve a request to seek alternative Cylinder Gas Audit (CGA) and Relative Accuracy Test Audit (RATA) frequency requirements for NOX, CO, and O2 in accordance with 40 CFR part 60, Appendix F at Dalkia Energy Services (Dalkia) located in Cambridge, Massachusetts?

A1: Yes. EPA approves Dalkia's request to omit a NOX, CO, and O2 CGA test during any calendar quarter in which the unit is operated less than 168 unit operating hours under 40 CFR section 60.13(i)(2). EPA also approves Dalkia's request to conduct a RATA once every four quality assurance operating quarters instead of once every four calendar quarters (where a quality assurance (QA) operating quarter is defined as one in which the unit operates 168 unit operating hours or more).

Q2: Does EPA approve Dalkia's request to extend the annual RATA due date?

A2: Yes. EPA approves the alternative frequency requirements for RATAs that allow Dalkia to follow the grace period provisions of 40 CFR part 75, Appendix B, section 2.2.4 for CGAs and 40 CFR part 75, Appendix B, section 2.3.3 for RATAs.

Abstract for [M110002]

Q: Does EPA consider a single coating line operated at InteliCoat's facility in South Hadley, Massachusetts a new facility; and if so, can Intelicoat restrict hazardous air pollutant emissions to below major source thresholds so it is no longer subject to 40 CFR part 63, subpart JJJJ, NESHAP for paper and other web coating?

A: No. EPA has determined that InteliCoat's single coating line would remain an existing affected source subject to NESHAP subpart JJJJ because it did not obtain federally enforceable restrictions on its potential to emit hazardous air pollutants by the first substantive compliance date of subpart JJJJ, i.e., December 5, 2005. This determination is consistent with the 1995, “Once In Always In” EPA policy.

Abstract for [1100003]

Q: Does 40 CFR part 60, subpart VVV apply to a new coating line at Koch Membrane Systems (KMS) located in Wilmington, Massachusetts if the line coats a paper substrate?

A: No. EPA has determined that NSPS subpart VVV will not apply because KMS coating line will not meet the definition of polymeric coating of supporting substrates. KMS applies polymer to a supporting web determined to be “paper” due to its characteristics, which is a substrate not regulated under this rule.

Abstract for [1100004]

Q: Will EPA approve alternate Relative Accuracy Test Audit (RATA) frequency requirements under 40 CFR part 75, Appendix B for the NOX and CO Continuous Emissions Monitoring Systems (CEMS) of the combined-cycle gas turbine under 40 CFR part 60, Appendix F, for Pawtucket Power Associates (PPA) located in Pawtucket, Rhode Island?

A: Yes. Pursuant to 40 CFR 60.13(i)(2, EPA approves PPA's request to follow the 40 CFR part 75, Appendix B RATA timing requirements for both the NOX and CO CEMS.

Abstract for [M110003]

Q1: Does EPA consider a facility that recycles lead-containing cathode ray tube glass with uncontrolled lead emissions, almost seven times below the emission standard, subject to 40 CFR part 63, subpart X?

A1: Yes. EPA has determined that this facility is subject to 40 CFR part 63, subpart X based on the description of the process and the lead emission rate. The process is considered to be recycling of “scrap lead and lead compounds” which are regulated under this rule.

Abstract for [1100006]

Q1: Will EPA approve a performance test (PT) waiver for installations of new quarry belt conveyors conveying sand with sufficient surface moisture, such that particulate matter emissions are not generated in accordance with 40 CFR part 60, subpart OOO for Unimin's non-metallic mineral processing facility near Kasota, Minnesota?

A1: Yes. EPA approves the PT waiver for installations of new quarry belt conveyors conveying the saturated material mined from below the water table, such that there are no emissions greater than zero percent opacity and the sand contains sufficient surface moisture.

Q2: Can existing Method 9 test results be used in lieu of future Method 9 performance test requirements?

A2: Yes. EPA will allow existing Method 9 test results to be used in lieu of future test requirements as long as the moisture content of the material on the conveyors remains as stated.

Abstract for [M110005]

Q1: Does EPA approve an alternate monitoring plan (AMP) to replace the requirement for collecting the facial velocity of air through all natural draft openings using a flow sensor, with measurement of static pressure within the duct from the permanent total enclosure (PTE) to the regenerative thermal oxidizer (RTO) in order to demonstrate continuous compliance with the PTE requirements under 40 CFR part 63, subpart MMMM, Miscellaneous Metal Part MACT, at the YUSA Corporation in Washington Court House, Ohio?

A1: Yes. EPA approves the AMP allowing continuous measurement of static pressure, and the correlation of these measurements with flow rate during a Method 204 certification test, in order to demonstrate that the average facial velocity through the natural draft openings of the PTE remains above 200 feet per minute and to determine continuous compliance with subpart MMMM.

Abstract for [M110006]

Q1: Does EPA approve an alternative monitoring request to establish the ash feed rate operating parameter limit (OPL) equal to the total waste feed rate to the incineration system that consists of two kilns, a secondary combustion chamber (SCC), and a waste fired boiler (WFB), in accordance with 40 CFR part 63, subpart EEE, at Clean Harbors El Dorado, LLC in El Dorado, Arkansas?

A1: No. EPA does not approve the request because the facility needs to establish separate ash feed rate limit for each kiln, SCC, and WFB.

Q2: Does EPA approve a waiver of the minimum combustion temperature OPL in the kilns?

A2: No. EPA does not approve a waiver of the minimum combustion temperature OPL in the kiln. It has to establish separate minimum combustion temperature OPL for each kiln.

Q3: Does EPA approve a waiver of the feedrate limits for the liquid waste fed to the kilns?

A3: No. EPA does not approve a waiver of the feedrate limits for the liquid waste fed to the kilns, as that facility must establish limits on the maximum pumpable and total (i.e., pumpable and nonpumpable) hazardous waste feedrate for each location where hazardous waste is fed.

Q4: Does EPA approve a waiver of the monitoring requirements for the minimum blowdown rate and the liquid level for the High Energy Scrubber (HES), given that the gases enter the HES prior to the baghouse, which is the primary particulate matter and metals removal device?

A4: No. EPA does not approve a waiver of the monitoring requirements for the minimum blowdown rate and the liquid level for HES, which is required under 40 CFR sections 63.1209(m)(1)(i)(B)(1) and (n)(3) to ensure that the solids content of the scrubber liquid does not exceed levels established during the performance test.

Q5: Does EPA approve a waiver of the maximum inlet temperature OPL for the baghouse that is operated after a wet pollution control system required under 40 CFR sections 63.1209(k)(1) and (n)(1)?

A5: No. EPA does not approve a waiver of the maximum inlet temperature OPL for the baghouse, which must be determined on a hourly rolling average.

Abstract for [1100007]

Q1: Does the fuel gas treatment unit at Atlas Pipeline Mid-Continent, LLC Compressor Station have to sell the extracted natural gas liquids to be considered a “natural gas processing plant” in accordance with 40 CFR part 60, subpart KKK?

A1: No. EPA has determined that a facility does not have to sell liquids to be considered a “natural gas processing plant.”

Q2: Does the facility have to operate at a specific temperature to be considered “engaged in the extraction of natural gas liquids”?

A2: No. EPA has determined there is no temperature criteria in the rule stating that a facility has to operate at a specific temperature to be considered “engaged in the extraction of natural gas liquids”.

Abstract for [M110007]

Q: Does EPA consider Rocky Mountain Reconditioning (RMR) to be subject to 40 CFR part 63, subpart HHHHHH if it performs touch up and repairs that only spray-applies coatings with a hand-held device with a paint cup capacity that is equal to or less than 3.0 fluid ounces, and uses hand-held non-refillable aerosol containers?

A: No. EPA does not consider RMR to be affected by 40 CFR part 63, subpart HHHHHH because the definition of “spray-applied coating operations” excludes coatings applied from a hand-held device with a paint cup capacity that is equal to or less than 3.0 fluid ounces, according to 40 CFR section 63.11180.

Abstract for [M110008]

Q: Which tanks are subject to 40 CFR part 63, subpart EEEE at the Great Plains Synfuels Plant located in Beulah, North Dakota operated by Dakota Gasification Company (DGC), if tar oil produced at the facility is sold such that it no longer meets the exclusion to the definition of “organic liquid”, according to 40 CFR section 63.2406 for onsite fuels?

A: EPA has determined that tanks in the distribution area where the tar oil is shipped would be subject to the 40 CFR part 63, subpart EEEE. EPA was unable to determine whether tanks and separators upstream of the distribution area, which produces tar oil, are subject to the 40 CFR part 63, subpart EEEE without additional information (e.g., tank identification, process flow diagrams), as described in the EPA response letter.

Abstract for [1100008]

Q1: Does EPA concur with the Minnesota Pollution Control Agency that Children's Health Care's physical changes will result in derating the boilers in accordance with 40 CFR part 60, subpart Dc?

A1: Yes. EPA provides concurrence that the derate method proposed for the boilers is acceptable, because it will consist of a permanent physical change that cannot be easily undone and prevents boilers from operating at a capacity greater than the derated value, and would require a reduction of their capacity.

Q2: Does EPA concur with the Minnesota Pollution Control Agency that the derated boilers will not be subject to 40 CFR part 60, subpart Dc?

A2: Yes. EPA provides concurrence that the derated boilers will not be subject to 40 CFR part 60, subpart Db if the proposed procedures specified in the EPA response letter are followed, including demonstration of the maximum heat input capacity by operating the boiler at maximum capacity for a 24-hour period.

Abstract for [1100009]

Q: Does EPA approve adopting 40 CFR part 75 quality assurance (QA) test schedules and grace periods as opposed to current schedule requirements for Cylinder Gas Audits (CGAs) and Relative Test Accuracy Audits (RATAs) under 40 CFR part 60, Appendix F for the NOX, CO, and O2 Continuous Emission Monitoring Systems (CEMS) at Mystic Station in Charlestown, MA?

A: Yes. EPA approves Mystic Station's request to omit a NOX, CO, and O2 CGA during any calendar quarter in which the unit is operated less than 168 unit operating hours. EPA also approves Mystic's request to conduct a RATA once every four QA operating quarters. Regardless of operation, Mystic Station shall conduct a CGA for NOX, CO, and O2 at least once every four calendar quarters as well as a RATA at least once every eight calendar quarters. EPA also allows Mystic to follow the grace period provisions of 40 CFR part 75, Appendix B, section 2.2.4 for CGAs and 40 CFR part 75, Appendix B, section 2.3.3 for RATAs.

Abstract for [1100010]

Q1: Does EPA approve a plan for Veterans Affairs, Edith Nourse Rogers Memorial Hospital in Bedford, Massachusetts (VA Bedford) to track monthly natural gas and oil usage for its three dual-fuel boilers, as opposed to daily records of fuel consumption under 40 CFR section 60.48c(g)(1)?

A1: Yes. EPA approves a decrease in fuel usage recordkeeping from daily records to monthly records for VA Bedford's three boilers conditioned on VA Bedford's use of natural gas as the primary fuel and distillate oil with sulfur content no greater than 0.5 percent.

Q2: May VA Bedford submit annual reports for its three dual-fueled boilers as opposed to semiannual reports required under 40 CFR section 60.48c(j)?

A2: No. EPA does not approve a decrease in the reporting frequency under 40 CFR part 60, subpart Dc because the facility received four shipments of diesel fuel in 2007, and two shipments of diesel fuel in 2009. Therefore, because more than one shipment was received in each of those recent years, VA Bedford must continue to submit the required semiannual reports.

Abstract for [1100011]

Q1: Does EPA approve an alternative monitoring plan for a Cumene Depropanizer Off Gas Vent Stream subject to 40 CFR part 60, subpart J at the Citgo Corpus Christi East Refinery located in Corpus Christi, Texas?

A1: No. EPA finds that the alternative monitoring plan from March 24, 2006, is no longer valid since an exemption provided in the rule applies to the stream. The Cumene Depropanizer Off Gas is a fuel gas that meets the exemption requirement of 40 CFR section 60.105(a)(4)(iv)(C). Therefore, the fuel gas combustion device does not need to meet the monitoring requirements of either 40 CFR section 60.105(a)(3) or 40 CFR section 60.105(a)(4).

Abstract for [1100012]

Q1: Does EPA approve an alternative monitoring request for Hydrar Process Unit Vent Streams subject to 40 CFR part 60, subpart J for the Citgo Corpus Christi East Refinery located in Corpus Christi, Texas?

A1: No. EPA does not approve the alternative monitoring request since the specified Hydrar vent stream fuels are fuel gases that meet the exemption requirement of 40 CFR section 60.105(a)(4)(iv)(C). Therefore, the fuel gas combustion device does not need to meet the monitoring requirements of either 40 CFR section 60.105(a)(3) or 40 CFR section 60.105(a)(4) for these specified vent streams.

Dated: May 7, 2012.
Lisa C. Lund,
Director, Office of Compliance.

[FR Doc. 2012-12296 Filed 5-21-12; 8:45 am]

BILLING CODE 6560-50-P